DEPARTMENT OF ENERGY

Federal Energy Regulatory Commission

Combined Notice of Filings #1

Take notice that the Commission received the following electric rate filings:

Docket Numbers: ER10-3125-008; ER10-3168-010; ER13-445-003; ER11-3460-005; ER10-3243-003; ER10-3244-003; ER13-342-005; ER14-2823-001; ER10-3102-008; ER10-3245-002; ER10-3249-002; ER10-3250-002; ER11-4060-003; ER11-4061-003; ER10-3169-006; ER10-3100-008; ER10-3251-001; ER14-2382-001; ER12-2570-006; ER11-2639-002; ER13-1586-002; ER10-1992-008; ER10-3107-008; ER10-3109-008; ER13-618-005; ER12-1301-004.

Applicants: AL Sandersville, LLC, ArcLight Energy Marketing, LLC, Badger Creek Limited, Bayonne Energy Center, LLC, Chandler Wind Partners, LLC, Coso Geothermal Power Holdings, LLC, CPV Shore, LLC, Double C Generation Limited Partnership, Effingham County Power, LLC, Foote Creek II, LLC, Foote Creek III, LLC, Foote Creek IV, LLC, High Sierra Limited, Kern Front Limited, Michigan Power Limited Partnership, MPC Generating, LLC, Oak Creek Wind Power, LLC, ON WIND ENERGY LLC, Panther Creek Power Operating, LLC, Ridge Crest Wind Partners, LLC,TGP Energy Management, LLC, Victory Garden Phase IV, LLC, Walton County Power, LLC, Washington County Power, LLC, Westwood Generation, LLC, Zone J Tolling Co., LLC

Description: Notice of Non-Material Change in Status of AL Sandersville, LLC, et. al.

Filed Date: 9/10/14.

Accession Number: 20140910-5215.

Comments Due: 5 p.m. ET 10/1/14.

Docket Numbers: ER13-1139-007.

Applicants: Imperial Valley Solar 1, LLC.

Description: Supplement to August 1, 2014 Notification of Non-Material Change in Status of Imperial Valley Solar 1, LLC.

Filed Date: 9/8/14.

Accession Number: 20140908-5132.

Comments Due: 5 p.m. ET 9/29/14.

Docket Numbers: ER14-2824-000.

Applicants: California Independent System Operator Corporation.

Description: § 205(d) rate filing per 35.13(a)(2)(iii): 2014-09-10_ProFormaAPSA to be effective 11/10/2014.

Filed Date: 9/10/14.

Accession Number: 20140910-5174.

Comments Due: 5 p.m. ET 10/1/14.

Docket Numbers: ER14-2825-000.

Applicants: Backbone Mountain Windpower LLC.

Description: Compliance filing per 35: Backbone Mountain Windpower, LLC Order No. 784 Compliance Filing to be effective 9/11/2014.

Filed Date: 9/10/14.

Accession Number: 20140910-5177.

Comments Due: 5 p.m. ET 10/1/14.

Docket Numbers: ER14-2826-000.

Applicants: Bayswater Peaking Facility, LLC.

Description: Compliance filing per 35: Bayswater Peaking Facility, LLC Order No. 784 Compliance Filing to be effective 9/11/2014.

Filed Date: 9/10/14.

Accession Number: 20140910-5178.

Comments Due: 5 p.m. ET 10/1/14.

Docket Numbers: ER14-2827-000.

Applicants: Energy Storage Holdings, LLC.

Description: Compliance filing per 35: Energy Storage Holdings, LLC Order No. 784 Compliance Filing to be effective 9/11/2014.

Filed Date: 9/10/14.

Accession Number: 20140910-5179.

Comments Due: 5 p.m. ET 10/1/14.

Docket Numbers: ER14-2828-000.

Applicants: FPL Energy Cape, LLC.

Description: Compliance filing per 35: FPL Energy Cape, LLC Order No. 784 Compliance Filing to be effective 9/11/2014.

Filed Date: 9/10/14.

Accession Number: 20140910-5180.

Comments Due: 5 p.m. ET 10/1/14.

Docket Numbers: ER14-2829-000.

Applicants: FPL Energy Illinois Wind, LLC.

Description: Compliance filing per 35: FPL Energy Illinois Wind, LLC Order No. 784 Compliance Filing to be effective 9/11/2014.

Filed Date: 9/10/14.

Accession Number: 20140910-5181.

Comments Due: 5 p.m. ET 10/1/14.

Docket Numbers: ER14-2830-000.

Applicants: FPL Energy MH50, L.P.

Description: Compliance filing per 35: FPL Energy MH50, L.P. Order No. 784 Compliance Filing to be effective 9/11/2014.

Filed Date: 9/10/14.

Accession Number: 20140910-5183.

Comments Due: 5 p.m. ET 10/1/14.

Docket Numbers: ER14-2831-000.

Applicants: FPL Energy Wyman LLC.

Description: Compliance filing per 35: FPL Energy Wyman, LLC Order No. 784 Compliance Filing to be effective 9/11/2014.

Filed Date: 9/10/14.

Accession Number: 20140910-5185.

Comments Due: 5 p.m. ET 10/1/14.

Docket Numbers: ER14-2832-000.

Applicants: FPL Energy Wyman IV LLC.

Description: Compliance filing per 35: FPL Energy Wyman IV, LLC Order No. 784 Compliance Filing to be effective 9/11/2014.

Filed Date: 9/10/14.

Accession Number: 20140910-5186.

Comments Due: 5 p.m. ET 10/1/14.

Docket Numbers: ER14-2833-000.

Applicants: Jamaica Bay Peaking Facility, LLC.

Description: Compliance filing per 35: Jamaica Bay Peaking Facility, LLC Order No. 784 Compliance Filing to be effective 9/11/2014.

Filed Date: 9/10/14.

Accession Number: 20140910-5188.

Comments Due: 5 p.m. ET 10/1/14.

Docket Numbers: ER14-2834-000.

Applicants: California Independent System Operator Corporation.

Description: § 205(d) rate filing per 35.13(a)(2)(iii): 2014-09-10_EIM_CorrectOffset to be effective 10/1/2014.

Filed Date: 9/10/14.

Accession Number: 20140910-5189.

Comments Due: 5 p.m. ET 10/1/14.

Docket Numbers: ER14-2835-000.

Applicants: Mantua Creek Solar, LLC.

Description: Compliance filing per 35: Mantua Creek Solar, LLC Order No. 784 Compliance Filing to be effective 9/11/2014.

Filed Date: 9/10/14.

Accession Number: 20140910-5190.

Comments Due: 5 p.m. ET 10/1/14.

Docket Numbers: ER14-2836-000.

Applicants: Meyersdale Windpower LLC.

Description: Compliance filing per 35: Meyersdale Windpower, LLC Order No. 784 Compliance Filing to be effective 9/11/2014.

Filed Date: 9/10/14.

Accession Number: 20140910-5192.

Comments Due: 5 p.m. ET 10/1/14.

Docket Numbers: ER14-2837-000.

Applicants: Mill Run Windpower, LLC.

Description: Compliance filing per 35: Mill Run Windpower, LLC Order No. 784 Compliance Filing to be effective 9/11/2014.

Filed Date: 9/10/14.

Accession Number: 20140910-5193.

Comments Due: 5 p.m. ET 10/1/14.

Docket Numbers: ER14-2838-000.

Applicants: NEPM II, LLC.

Description: Compliance filing per 35: NEPM II, LLC Order No. 784 Compliance Filing to be effective 9/11/2014.

Filed Date: 9/10/14.

Accession Number: 20140910-5194.

Comments Due: 5 p.m. ET 10/1/14.

Docket Numbers: ER14-2839-000.

Applicants: NextEra Energy Seabrook, LLC.

Description: Compliance filing per 35: NextEra Energy Seabrook, LLC Order No. 784 Compliance Filing to be effective 9/11/2014.

Filed Date: 9/10/14.

Accession Number: 20140910-5195.

Comments Due: 5 p.m. ET 10/1/14.

Docket Numbers: ER14-2840-000.

Applicants: NextEra Energy Services Massachusetts, LLC.

Description: Compliance filing per 35: NextEra Energy Services Massachusetts, LLC Order No. 784 Compliance Filing to be effective 9/11/2014.

Filed Date: 9/10/14.

Accession Number: 20140910-5196.

Comments Due: 5 p.m. ET 10/1/14.

Docket Numbers: ER14-2841-000.

Applicants: North Jersey Energy Associates, A Limited Partnership.

Description: Compliance filing per 35: North Jersey Energy Associates, A Limited Partnership Order No. 784 Compliance to be effective 9/11/2014.

Filed Date: 9/10/14.

Accession Number: 20140910-5197.

Comments Due: 5 p.m. ET 10/1/14.

Docket Numbers: ER14-2842-000.

Applicants: Northeast Energy Associates, A Limited Partnership.

Description: Compliance filing per 35: Northeast Energy Associates, A Limited Partnership Order No. 784 Compliance to be effective 9/11/2014.

Filed Date: 9/10/14.

Accession Number: 20140910-5198.

Comments Due: 5 p.m. ET 10/1/14.

Docket Numbers: ER14-2843-000.

Applicants: Pennsylvania Windfarms, LLC.

Description: Compliance filing per 35: Pennsylvania Windfarms, LLC Order No. 784 Compliance Filing to be effective 9/11/2014.

Filed Date: 9/10/14.

Accession Number: 20140910-5199.

Comments Due: 5 p.m. ET 10/1/14.

Docket Numbers: ER14-2844-000.

Applicants: Somerset Windpower, LLC.

Description: Compliance filing per 35: Somerset Windpower, LLC Order No. 784 Compliance Filing to be effective 9/11/2014.

Filed Date: 9/10/14.

Accession Number: 20140910-5200.

Comments Due: 5 p.m. ET 10/1/14.

Docket Numbers: ER14-2845-000.

Applicants: Waymart Wind Farm L.P.

Description: Compliance filing per 35: Waymart Wind Farm, L.P. Order No. 784 Compliance Filing to be effective 9/11/2014.

Filed Date: 9/10/14.

Accession Number: 20140910-5201.

Comments Due: 5 p.m. ET 10/1/14.

Docket Numbers: ER14-2846-000.

Applicants: California Independent System Operator Corporation.

Description: Compliance filing per 35: 2014-09-10 LGIA Filing in Compliance with August 11, 2014 Order in ER13-1312 to be effective 7/28/2010.

Filed Date: 9/10/14.

Accession Number: 20140910-5202.

Comments Due: 5 p.m. ET 10/1/14.

Docket Numbers: ER14-2847-000.

Applicants: Energy Investments, LLC, Energy Investments, LLC.

Description: Notice of Cancellation of Energy Investments, LLC of market based rate tariff.

Filed Date: 9/10/14.

Accession Number: 20140910-5213.

Comments Due: 5 p.m. ET 10/1/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2014.
Nathaniel J. Davis, Sr.,
Deputy Secretary.

[FR Doc. 2014-22392 Filed 9-18-14; 8:45 am]

BILLING CODE 6717-01-P